DEPARTMENT OF JUSTICE

Notice of Lodging of Consent Decree Under the Comprehensive Environmental Response, Compensation and Liability Act

Notice is hereby given that on October 12, 2006, a proposed Consent Decree with Burns Iron & Metal Company, Inc (“Consent Decree”) in United States v. A-L Processors, f.k.a. Atlas-Lederer Co., et al., Civil Action No. C-3-91-309 was lodged with the United States District Court for the Southern District of Ohio.

In this action the United States sought reimbursement of response costs in connection with the United Scrap Lead Superfund Site in Troy, Miami County, Ohio (“the Site”) pursuant to the Comprehensive Environmental Response, Compensation and Liability Act (“CERCLA”), 42 U.S.C. 9601 et seq. The Consent Decree resolves the United States' claims against Defendant Burns Iron & Metal Company (“BIMCO”) for response costs incurred as a result of the release or threatened release of hazardous substances at the Site. This is an “ability-to-pay” settlement based on financial analyses conducted by the Department's Antitrust Corporate Finance Unit. BIMCO will pay the United States $312,000. In addition, some of the present and former shareholders of BIMCO will pay the United States $49,500 under a stipulated settlement in a related action of United States v. Larry Katz et al., Case No. 3:05 CV 0058 (S.D. Ohio). The United States' remaining outstanding costs exceed $9,000,000 and are being sought from the remaining defendant in this case and in the related action. The Consent Decree also resolves the United Scrap Lead Respondent Group's (“Respondent Group”) CERCLA claims against BIMCO for response costs incurred by the Respondent Group in cleaning up the Site under an earlier Consent Decree. BIMCO will pay the Respondent Group $88,000.

The Department of Justice will receive for a period of thirty (30) days from the date of this publication comments relating to the Consent Decree. Comments should be addressed to the Assistant Attorney General, Environment and Natural Resources Division, P.O. Box 7611, U.S. Department of Justice, Washington, DC 20044-7611, and should refer to United States v. A-L Processors, f.k.a. Atlas-Lederer Co., et al., D.J. Ref. 90-11-3-279B.

The Consent Decree may be examined at the Office of the United States Attorney, Southern District of Ohio, Federal Building Room 601, 200 West Second Street, Dayton, Ohio, or at the Region 5 Office of the Environmental Protection Agency, 77 West Jackson Street, Chicago, Illinois 60604-3590. During the public comment period, the proposed Consent Decree may also be examined on the following Department of Justice Web site at http://www.usdoj.gov/enrd/Consent_Decrees.html. A copy of the proposed Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $8.75 (25 cents per page reproduction cost) payable to the U.S. Treasury or, if by e-mail or fax, forward a check in that amount to the Consent Decree Library at the stated address.

William D. Brighton,
Assistant Chief, Environmental Enforcement Section, Environment and Natural Resources Division.

[FR Doc. 06-8885 Filed 10-24-06; 8:45 am]

BILLING CODE 4410-15-M